DEPARTMENT OF HEALTH AND HUMAN SERVICES

National Institutes of Health

Center for Scientific Review; Amended Notice of Meeting

Notice is hereby given of a change in the meeting of the Center for Scientific Review Special Emphasis Panel, February 13, 2008, 1 p.m. to February 13, 2008, 4:30 p.m., National Institutes of Health, 6701 Rockledge Drive, Bethesda, MD, 20892 which was published in the Federal Register on January 9, 2008, 73 FR 1634-1637.

The meeting will be held February 14, 2008. The meeting time and location remains the same. The meeting is closed to the public.

Dated: January 15, 2008.
Jennifer Spaeth,
Director, Office of Federal Advisory Committee Policy.

[FR Doc. 08-219 Filed 1-22-08; 8:45 am]

BILLING CODE 4140-01-M